U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission.

The Commission is mandated by Congress to investigate, assess, and report to Congress annually on “the national security implications of the economic relationship between the United States and the People's Republic of China.” Pursuant to this mandate, the Commission will hold a public release of its 2019 Annual Report to Congress in Washington, DC on November 14, 2019.

DATES: The release is scheduled for Thursday, November 14, 2019 from 10:00 a.m. to 11:00 a.m.

ADDRESSES: Hart Senate Office Building, Room 902, Washington, DC. Please check the Commission's website at www.uscc.gov for possible changes to the event schedule. Reservations are not required to attend.

FOR FURTHER INFORMATION CONTACT: Any member of the public seeking further information concerning the event should contact Leslie Tisdale Reagan, 444 North Capitol Street NW, Suite 602, Washington DC 20001; telephone: 202-624-1496, or via email at lreagan@uscc.gov. Reservations are not required to attend.

ADA Accessibility: For questions about the accessibility of the event or to request an accommodation, please contact Leslie Tisdale Reagan at 202-624-1496, or via email at lreagan@uscc.gov. Requests for an accommodation should be made as soon as possible, and at least five business days prior to the event.

SUPPLEMENTARY INFORMATION:

Topics To Be Discussed: The Commission's 2019 Annual Report to Congress addresses key findings and recommendations for Congressional action based upon the Commission's hearings, research, travel, and review of the areas designated by Congress in its mandate, including focused work this year on: China's internal and external challenges; artificial intelligence, new materials, and new energy; U.S. companies in China and Chinese companies in the United States.; health and pharmaceuticals; China's ambitions to build a “world-class” military; China-Russia relations; China's ambitions in space; Taiwan; Hong Kong; changing regional dynamics in Oceania and Singapore; and a review of economics, trade, security, political, and foreign affairs developments in 2019.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: October 11, 2019.
Daniel W. Peck,
Executive Director, U.S.-China Economic and Security Review Commission.

[FR Doc. 2019-22653 Filed 10-16-19; 8:45 am]

BILLING CODE 1137-00-P